DEPARTMENT OF TRANSPORTATION

Federal Transit Administration

Preparation of a Programmatic Environmental Impact Statement on the Jacksonville, Florida Rapid Transit System

AGENCY: Federal Transit Administration, Department of Transportation.

ACTION: Notice of intent to prepare a programmatic environmental impact statement.

SUMMARY: The Federal Transit Administration, in cooperation with Jacksonville (Florida) Transportation Authority, is planning to prepare a programmatic environmental impact statement for the proposed expansion of and improvements to the Jacksonville Rapid Transit System, a busway serving the greater Jacksonville area. The programmatic environmental impact statement will be prepared in accordance with regulations implementing the National Environmental Policy Act, as supplemented by the joint Federal Transit Administration—Federal Highway Administration National Environmental Policy Act procedures. The purpose of this notice of intent is to alert interested parties regarding the plan to prepare the programmatic environmental impact statement, to provide information on the nature of the proposed transit program, to invite public participation in the impact statement process, including comments on this notice, and to announce that public scoping meetings will be conducted.

DATES: Written comments on this notice, including the scope of study and impacts to be considered, should be sent to Ms. Suraya Teeple, Senior Transportation Planner, by February 1, 2007.

ADDRESSES: Written comments on this notice should be sent to Ms. Suraya Teeple, Senior Transportation Planner, Jacksonville Transportation Authority, Post Office Drawer O, Jacksonville, Florida 32202.

Public scoping meetings will be held at the following dates, times, and locations.

Monday, January 29, 2007, from 4:30-7:30 p.m. Northwest Library, 1755 Edgewood Avenue West, Jacksonville, Florida 32208.

Tuesday, January 30, 2007, from 4:30-7:30 p.m. FCCJ Deerwood Center, 9911 Old Baymeadows Road, Jacksonville, Florida 32256.

Wednesday, January 31, 2007, from 4:30-7:30 p.m. Regency Square Library, 9900 Regency Square Blvd., Jacksonville, Florida 32225.

Thursday, February 1, 2007, from 4:30-7:30 p.m. FCCJ Kent Campus, 3939 Roosevelt Blvd., Jacksonville, Florida 32205.

Individuals who may require special accommodations should contact Ms. Winova Hart, Project Coordinator, Jacksonville Transportation Authority, Post Office Drawer O, Jacksonville, Florida, 32203 (Telephone (904) 630-3185) at least 48 hours in advance of a meeting in order for Jacksonville Transportation Authority to make the necessary arrangements.

FOR FURTHER INFORMATION CONTACT: Ms. Tajsha LaShore, Transportation Program Specialist, Federal Transit Administration, Atlanta Regional Office at (404) 562-3506.

SUPPLEMENTARY INFORMATION: The Proposed Program: The proposed program grew out of a 1998 study of the Rapid Transit System, a busway serving the greater Jacksonville area, which has been funded in part by a one-half cent sales tax approved in 2000. The Rapid Transit System's proposed alignments are located in major corridors—the North corridor, extending from the Jacksonville central business district (CBD) north to Norwood Avenue; the East corridor, extending from the CBD east to Regency Square Mall; the Southeast corridor, extending from the CBD southeast to Baymeadows Road; and the Southwest corridor, extending from the CBD southwest to 103rd Street/Timuquana Road—that serve and connect employment centers and residential areas. A full description of the system, complete with maps, may be obtained upon request, and will be available at each public scoping meeting. Additional information on the Regional Transit System can also be found on the Jacksonville Transportation Authority Web site at http://www.jtafla.org. The proposed program is consistent with the approved Long Range Transportation Plan of the First Coast Metropolitan Planning Organization. The objective of this programmatic—also known as Tier 1—impact statement process is to settle on alignments within system corridors to enable right-of-way acquisition to proceed, thereby avoiding additional delays that would serve to increase the overall cost of the program.

Purposes of and Need for the Proposed Program: Recent studies of the corridors to be served by the proposed program revealed the need for transportation improvements, including a wider range of mobility options, to meet increasing travel demand within and through the corridors. Transit service delivery options are undergoing major changes in the greater Jacksonville area in response to changing demographics. Jacksonville is geographically expansive, with multiple employment centers both downtown and in suburban areas. Additionally, Jacksonville has an increasingly elderly population occurring naturally with long term residents and with in-migration from other States and south Florida. Jacksonville also has experienced increases in suburban employment centers and increases in downtown residential development along with continued suburban residential development. Regional Transit System improvements are designed to accommodate these changing circumstances.

Alternatives: By and large, the proposed program is substantially identical to a locally preferred alternative that was adopted in 2005 at the conclusion of alternatives analysis studies. This programmatic impact statement process will examine the transit system as a whole with a view toward settling on alignments within the four corridors identified above. Refinements to various alignments will be explored. These refinements will be developed in consultation with State and local agencies and the surrounding community in the context of the programmatic impact statement. The intent of the refinements is to stay generally within the original corridor while seeking to enhance ridership potential, reduce costs where feasible, and mitigate adverse environmental impacts. Major components of the entire system will be phased in over time. A site-specific environmental process will be undertaken for each component.

For this programmatic examination, the only other alternative currently under consideration is a no-build alternative. The no-build alternative serves as the baseline against which environmental effects of other alternatives, including the proposed program, may be measured.

The Programmatic Environmental Impact Statement Process and the Role of the Public: The purpose of the programmatic impact statement process is to explore in a public setting potentially significant effects of implementing the proposed program, particularly as it relates to alignment options within the system, on the physical, human, and natural environment. Areas of investigation include, but are not limited to, land use, development potential, land acquisition and displacements, historic resources, visual and aesthetic qualities, air quality, noise and vibration, energy use, safety and security, and ecosystems, including threatened and endangered species. Measures to avoid, minimize, or mitigate any significant adverse impacts will be identified.

Regulations implementing the National Environmental Policy Act (NEPA), as well as provisions of the joint Federal Transit Administration—Federal Highway Administration National Environmental Policy Act procedures, call for public involvement in the impact statement process. The scoping meetings announced above are designed to provide the public with the most meaningful opportunity to participate knowledgeably in this process.

Comments in response to this notice on potentially significant environmental impacts that may be associated with the proposed program are welcomed. There will be additional opportunities to comment in the scoping process at the public meetings announced above.

Issued on: January, 5, 2007.
Yvette G. Taylor,
Regional Administrator, FTA Region 4.

[FR Doc. 07-89 Filed 1-10-07; 8:45 am]

BILLING CODE 4910-57-P